DEPARTMENT OF HOMELAND SECURITY

U.S. Customs and Border Protection

DEPARTMENT OF THE TREASURY

19 CFR Parts 10, 24, 162, 163, and 178

[USCBP-2010-0041; CBP Dec. 11-19]

RIN 1515-AD68

United States-OMAN Free Trade Agreement

AGENCIES: U.S. Customs and Border Protection, Department of Homeland Security; Department of the Treasury.

ACTION: Final rule.

SUMMARY: This document adopts as a final rule, without change, interim amendments to the Customs and Border Protection (“CBP”) regulations which were published in the Federal Register on January 6, 2011, as CBP Dec. 11-01 to implement the preferential tariff treatment and other customs-related provisions of the United States—Oman Free Trade Agreement entered into by the United States and the Sultanate of Oman.

DATES: Final rule effective November 21, 2011.

FOR FURTHER INFORMATION CONTACT: Textile Operational Aspects: Nancy Mondich, Office of International Trade, (202) 863-6524. Other Operational Aspects: Seth Mazze, Office of International Trade, (202) 863-6567. Legal Aspects: Elif Eroglu, Office of International Trade, (202) 325-0277.

SUPPLEMENTARY INFORMATION:

Background

On January 19, 2006, the United States and the Sultanate of Oman (the “Parties”) entered into the U.S.-Oman Free Trade Agreement (“OFTA” or “Agreement”). The provisions of the OFTA were adopted by the United States with the enactment of the United States-Oman Free Trade Agreement Implementation Act (the “Act”), Public Law 109-283, 120 Stat. 1191 (19 U.S.C. 3805 note), on September 26, 2006. Section 206 of the Act requires that regulations be prescribed as necessary pending the President issuing a proclamation to implement the Agreement.

Following Presidential Proclamation 8332, CBP published on January 6, 2011, CBP Dec. 11-01 in the Federal Register (76 FR 697), setting forth interim amendments to implement the preferential tariff treatment and customs-related provisions of the OFTA. In order to provide transparency and facilitate their use, the majority of the OFTA implementing regulations set forth in CBP Dec. 11-01 were included within new subpart P in part 10 of the CBP regulations (19 CFR part 10). However, in those cases in which OFTA implementation was more appropriate in the context of an existing regulatory provision, the OFTA regulatory text was incorporated in an existing part within the CBP regulations. For a detailed description of the pertinent provisions of the Agreement and of the OFTA implementing regulations, please see CBP Dec. 11-01.

Although the interim regulatory amendments were promulgated without prior public notice and comments procedures and took effect on January 6, 2011, CBP Dec. 11-01 provided for the submission of public comments that would be considered before adopting the interim regulations as a final rule. The prescribed comment period closed on March 7, 2011.

Discussion of Comment Received in Response to CBP Dec. 11-01

One favorable response was received to the solicitation of comments on the interim rule set forth in CBP Dec. 11-01 which recommended that the government have more free trade agreements like the OFTA.

Conclusion

Accordingly, CBP believes that the interim regulations published as CBP Dec. 11-01 should be adopted as a final rule without change.

Executive Order 12866

This document is not a regulation or rule subject to the provisions of Executive Order 12866 of September 30, 1993 (58 FR 51735, October 1993), because it pertains to a foreign affairs function of the United States and implements an international agreement, as described above, and therefore is specifically exempted by section 3(d)(2) of Executive Order 12866.

Regulatory Flexibility Act

CBP Dec. 11-01 was issued as an interim rule rather than a notice of proposed rulemaking because CBP had determined that the interim regulations involve a foreign affairs function of the United States pursuant to section 553(a)(1) of the Administrative Procedure Act. Because no notice of proposed rulemaking was required, the provisions of the Regulatory Flexibility Act, as amended (5 U.S.C. 601 et seq.), do not apply to this rulemaking. Accordingly, this final rule is not subject to the regulatory analysis requirements or other requirements of 5 U.S.C. 603 and 604.

Paperwork Reduction Act

The collections of information in these regulations are under review by the Office of Management and Budget in accordance with the requirements of the Paperwork Reduction Act (44 U.S.C. 3507) under control number 1651-0117. Under the Paperwork Reduction Act, an agency may not conduct or sponsor, and an individual is not required to respond to, a collection of information unless it displays a valid OMB control number.

The collections of information in these regulations are in §§ 10.863, 10.864, 10.881, and 10.884. This information is required in connection with claims for preferential tariff treatment and for the purpose of the exercise of other rights under the OFTA and the Act and will be used by CBP to determine eligibility for a tariff preference or other rights or benefits under the OFTA and the Act. The likely respondents are business organizations including importers, exporters and manufacturers.

The estimated average annual burden associated with the collection of information in this final rule is 0.2 hours per respondent or recordkeeper.

Signing Authority

This document is being issued in accordance with § 0.1(a)(1) of the CBP regulations (19 CFR 0.1(a)(1)) pertaining to the authority of the Secretary of the Treasury (or his/her delegate) to approve regulations related to certain customs revenue functions.

List of Subjects

19 CFR Part 10

Customs duties and inspection, Exports, Imports, Reporting and recordkeeping requirements.

19 CFR Part 24

Accounting, Customs duties and inspection, Reporting and recordkeeping requirements.

19 CFR Part 162

Administrative practice and procedure, Customs duties and inspection, Reporting and recordkeeping requirements.

19 CFR Part 163

Administrative practice and procedure, Customs duties and inspection, Exports, Imports, Reporting and recordkeeping requirements.

19 CFR Part 178

Reporting and recordkeeping requirements.

Amendments to the CBP Regulations

Accordingly, the interim rule amending parts 10, 24, 162, 163, and 178 of the CBP regulations (19 CFR parts 10, 24, 162, 163, and 178), which was published at 76 FR 697 on January 6, 2011, is adopted as a final rule without change.

Alan D. Bersin,
Commissioner, U.S. Customs and Border Protection.
Approved: October 18, 2011.
Timothy E. Skud,
Deputy Assistant Secretary of the Treasury.

[FR Doc. 2011-27310 Filed 10-20-11; 8:45 am]

BILLING CODE 9111-14-P